NATIONAL COUNCIL ON DISABILITY

Notice of Charter Renewal for the Youth Advisory Committee

AGENCY: National Council on Disability.

ACTION: Notice of renewal.

SUMMARY: This notice is published in accordance with Section 9(a)(2) of the Federal Advisory Committee Act of 1972 (Pub. L. 92-463). Following consultation with the U.S. General Services Administration, notice is hereby given that the Chairperson of the National Council on Disability (NCD) is renewing the charter for the Youth Advisory Committee. The purpose of the Youth Advisory Committee is to provide input into NCD activities consistent with the values and goals of the Americans with Disabilities Act.

FOR FURTHER INFORMATION CONTACT: Gerrie Drake Hawkins, Ph.D., Senior Program Analyst, National Council on Disability, 1331 F Street, NW., Suite 850, Washington, DC 20004; 202-272-2004 (voice), 202-272-2074 (TTY), 202-272-2022 (fax), youth@ncd.gov (e-mail). The certification of Charter renewal is published below:

Certification

I hereby certify that Charter renewal of the Youth Advisory Committee is in the public interest in connection with the performance of duties imposed on the National Council on Disability.

John R. Vaughn, Chairperson.

Dated: October 23, 2007.
Michael C. Collins,
Executive Director.

[FR Doc. E7-21461 Filed 10-30-07; 8:45 am]

BILLING CODE 6820-MA-P